DEPARTMENT OF THE INTERIOR

Bureau of Land Management

[ID-933-1430-ET; DK-G-06-0005, IDI-7322]

Public Land Order No. 7671; Extension of Public Land Orders No. 6629 and No. 6670; Idaho

AGENCY: Bureau of Land Management, Interior.

ACTION: Public Land Order.

SUMMARY: This order extends Public Land Orders No. 6629 and No. 6670 for additional 20-year terms. Extension of these orders is necessary to continue the protection of the Lower Salmon River in Idaho, Lewis, and Nez Perce Counties.

Effective Date: September 27, 2006.

FOR FURTHER INFORMATION CONTACT: Jackie Simmons, BLM Idaho State Office, 1387 S. Vinnel Way, Boise, Idaho 83709, 208-373-3867.

SUPPLEMENTARY INFORMATION: Copies of the original withdrawal orders containing a legal description of the lands involved are available from the Bureau of Land Management, Idaho State Office at the address above.

Order

By virtue of the authority vested in the Secretary of the Interior by Section 204 of the Federal Land Policy and Management Act of 1976, 43 U.S.C. 1714 (2000), it is ordered as follows:

1. Public Land Order No. 6629 (51 FR 41104, November 13, 1986) and Public Land Order No. 6670 (53 FR 10535, April 1, 1988), which withdrew a total of 26,593.81 acres of public lands and minerals from settlement, sale, location, and entry under the general land laws, including the United States mining laws, but not the mineral leasing laws, to protect the Lower Salmon River, are hereby each extended for additional 20-year terms.

2. Public Land Order No. 6629 will expire on November 12, 2026 and Public Land Order No. 6670 will expire on March 31, 2028, unless, as a result of a review conducted prior to the expiration dates pursuant to Section 204(f) of the Federal Land Policy and Management Act of 1976, 43 U.S.C. 1714(f) (2000), the Secretary determines that the withdrawals shall be extended.

(Authority: 43 CFR 2310.4)

Dated: September 8, 2006.
R. Thomas Weimer,
Assistant Secretary of the Interior.

[FR Doc. E6-15827 Filed 9-26-06; 8:45 am]

BILLING CODE 4310-22-P